Proclamation 10706 of February 29, 2024

Women's History Month, 2024

By the President of the United States of America

A Proclamation

During Women's History Month, we celebrate the courageous women who have helped our Nation build a fairer, more just society.

Throughout history, the vision and achievements of powerful women have strengthened our Nation and opened the doors of opportunity wider for all of us. Though their stories too often go untold, all of us stand on the shoulders of these sung and unsung trailblazers—from the women who took a stand as suffragists, abolitionists, and labor leaders to pioneering scientists and engineers, groundbreaking artists, proud public servants, and brave members of our Armed Forces.

Despite the progress that these visionaries have achieved, there is more work ahead to knock down the barriers that stand in the way of women and girls realizing their full potential—in a country founded on freedom and equality, nothing is more fundamental. That is why my Administration has put women and girls at the heart of everything we do. When I first came into office, I established the White House Gender Policy Council to advance their rights and opportunities across domestic and foreign policy. I also released the Nation's first-ever National Gender Strategy to advance gender equity and equality across my Administration—from women's economic security and leadership opportunities to freedom from gender-based violence and equal access to education and health care. Women are seated at every table where decisions are made in my Administration—from our first female Vice President, Kamala Harris, to a record number of female cabinet secretaries to the most diverse set of judges ever nominated to the Federal bench, including Supreme Court Justice Ketanji Brown Jackson.

If we want to have the strongest economy in the world, we cannot leave women—half of our workforce—behind. Since I have been in office, the economy has created nearly 15 million jobs, and we have seen the lowest unemployment rate among women in more than five decades. As we implement major pieces of legislation like the Bipartisan Infrastructure Law, the CHIPS and Science Act, and the Inflation Reduction Act, we are ensuring that women get their fair share of opportunities. We are increasing their access to new jobs in sectors where women have been historically underrepresented, like manufacturing, construction, and clean energy. We are championing equal pay, including issuing new regulations that advance pay equity and pay transparency for Federal workers and employees of Federal contractors.

We are making sure women have access to the resources they need to enter and remain in the workforce, including high-quality, affordable child care. My Administration's American Rescue Plan helped working mothers, especially during the most challenging times of the pandemic, by keeping the doors of 220,000 child care centers open—90 percent of which are owned and staffed by women. Our Child Tax Credit cut the number of children in poverty by 50 percent and provided breathing room for 65 million children and their families, and we will keep fighting to restore it. I have also signed legislation that provides new protections for pregnant and postpartum workers.

To promote the health and wellness of women in America, under the leadership of Vice President Harris, we launched the Blueprint for Addressing the Maternal Health Crisis to combat the high incidence of maternal mortality—especially for Black, Native, and rural women—due to systemic inequities in quality health care. We have expanded access to health care services for women veterans—the fastest growing group of veterans receiving services at the Department of Veterans Affairs. Last fall, we launched the White House Initiative on Women's Health Research to change how we approach and fund women's health research, and pioneer the next generation of discoveries in women's health care.

Further, Vice President Harris and I are fighting to protect women's reproductive freedom. In 2022, the Supreme Court made an extreme decision to overturn Roe v. Wade, reversing nearly five decades of recognizing a woman's constitutional right to choose and make deeply personal decisions about her health care. Now, tens of millions of women live in States with an extreme and dangerous abortion ban currently in effect. Across the country, women are being turned away from emergency rooms, forced to go to court to seek permission for the medical attention they need, and made to travel hundreds of miles for care. This is unacceptable. That is why I have taken action to safeguard access to reproductive care, including abortion and contraception. Vice President Harris and I will keep calling on the Congress to restore the protections of Roe v. Wade in Federal law—the only way to ensure women in every State have the right to choose.

As we lift up women's health and economic prosperity, we also have to protect their physical security. As a United States Senator, I was proud to write the Violence Against Women Act, which helped change the culture of silence around the scourge of gender-based violence in America. When we reauthorized the law, we increased our total investment in prevention and support to $700 million for 2023 alone—the highest funding ever to protect women from gender-based violence in nearly 30 years. I have also spearheaded historic military justice reforms to better protect survivors and ensure that, in cases of gender-based violence, prosecutorial decisions are fully independent from the chain of command. Last year, my Administration released the first-ever National Plan to End Gender-Based Violence, advancing a comprehensive Government-wide approach to preventing and addressing gender-based violence across the United States.

Globally, my Administration is supporting initiatives that help expand access to child care, end gender-based violence, cut the digital gender divide in half, promote women's leadership, and more. Thanks to the leadership of Vice President Harris, we have galvanized more than $2.9 billion in investments to advance the economic status of women around the world and ensure they play a meaningful role in the industries of the future.

This Women's History Month, may we recognize the long, storied history of great women helping to realize our Nation's founding promise and highest aspirations. May we all continue working to build a world worthy of the dreams and goals of all women and girls.

NOW, THEREFORE, I, JOSEPH R. BIDEN JR., President of the United States of America, by virtue of the authority vested in me by the Constitution and the laws of the United States, do hereby proclaim March 2024 as Women's History Month. I call upon all Americans to observe this month and to celebrate International Women's Day on March 8, 2024, with appropriate programs, ceremonies, and activities. I also invite all Americans to visit WomensHistoryMonth.gov to learn more about the vital contributions of women to our Nation's history.

IN WITNESS WHEREOF, I have hereunto set my hand this twenty-ninth day of February, in the year of our Lord two thousand twenty-four, and of the Independence of the United States of America the two hundred and forty-eighth.

[FR Doc. 2024-04819

Filed 3-4-24; 11:15 am]

Billing code 3395-F4-P